DEPARTMENT OF HEALTH AND HUMAN SERVICES

Administration on Aging

Availability of Funding Opportunity Announcement

Funding Opportunity Title/Program Name: Senior Medicare Patrol Projects.

Announcement Type: Initial.

Funding Opportunity Number: HHS-2006-AoA-SM-0603.

Statutory Authority: The Older Americans Act, Public Law 106-501.

Catalog of Federal Domestic Assistance (CFDA) Number: 93.048, Title IV and Title II, Discretionary Projects, and the Health Insurance Portability and Accountability Act of 1996 (Pub. L. 104-191).

Dates: The deadline date for the receipt of applications is April 28, 2006.

I. Funding Opportunity Description

This announcement seeks proposals for the Senior Medicare Patrol (SMP) Projects which will serve as model projects that demonstrate effective ways of utilizing retired persons as volunteer expert resources and educators in community-based efforts to prevent and identify health care error, fraud and abuse in the Medicare/Medicaid programs. Applicants under this announcement must provide a comprehensive plan for statewide SMP program coverage targeting isolated and hard-to-reach, beneficiaries, their families or caregivers and address the five SMP program objectives. A detailed description of the funding opportunity including the program objectives and application materials may be obtained at http://www.aoa.gov/doingbus/fundopp/fundopp.asp or http://www.grants.gov.

II. Award Information

1. Funding Instrument Type

Cooperative Agreement. Grantees will carry out cooperative agreement awards to train retired persons to serve in their communities as volunteer expert resources and educators in preventing and identifying health care error, fraud, and abuse. The award is a cooperative agreement because the AoA will be substantially involved in the development and execution of the activities of the projects. AoA will provide mentoring, on-line training and other technical support through its National Consumer Protection Technical Resource Center (the Center). The Center will also provide technical assistance and support to the grantee in volunteer recruitment and management; will ensure currency in Medicare and Medicaid program information, fraud prevention and identification techniques, outreach strategies, complaint management, tracking and reporting; and will share approaches for reaching targeted populations. The AoA project officer for the SMP project grant will also provide technical assistance and support on grant management and implementation issues, including execution of the cooperative agreement. The AoA will conduct at least one national conference and one regional meeting in alternate years for the purpose of providing technical assistance and training to SMP projects. Grantee participation in these conferences is specified as part of the cooperative agreement. The grantee and the AoA will work cooperatively to determine the priority activities to be completed by the project and develop the work plan for each year of the project. Within 45 days of the award and 45 days of each continuation award, the project will agree upon and adhere to a work plan that details expectations for major activities, products, and reports during the current budget period. The work plan will include specific steps and a timetable for implementing statewide program coverage. The plan will also specify actions to expand program access to target populations. The work plan will also include staff assignments, work locations, and other areas that require AoA consultation, review, and/or prior approval. Either the AoA or the project can propose a revision of the final work plan at any time.

The AoA will specify project performance criteria and expectations relative to the SMP program objectives and will monitor, evaluate and support the projects' efforts in achieving performance goals. The project will provide program performance output, outcome and activity data semiannually utilizing the performance instrument developed by the AoA and the HHS Office of the Inspector General (OIG). The AoA will evaluate project performance data, and provide support and technical assistance, in coordination with the Center, to assist projects in improving performance.

The AoA will provide information to grantee leadership to assist in understanding the strategic goals and objectives, policy perspectives and priorities of the Assistant Secretary for Aging and the Department of Health and Human Services. The AoA will also share information with the grantee about other SMP projects, including integration grants, and other federally sponsored projects and activities relevant to the interests of SMP projects.

2. Anticipated Total Priority Area Funding Per Budget Period

The AoA intends to make available, under this program announcement, grant awards for up to twenty-eight (28) cooperative agreements at a federal share of up to $180,000 per year for a project period of up to three (3) years. With the exception of Guam and the U.S. Virgin Islands, grantees are required to cover 25% of the total cost of the project from non-federal case or in-kind assistance.

III. Eligibility Criteria and Other Requirements

1. Eligible Applicants

Eligibility for grant awards is limited to public state and local agencies, federally recognized tribes, or nonprofit agencies, organizations, and institutions, including faith-based organizations, in the following 26 states and 2 territories: Alabama, California, Connecticut, Hawaii, Iowa, Illinois, Indiana, Louisiana, Maryland, Minnesota, Missouri, Mississippi, North Carolina, North Dakota, Nebraska, New Hampshire, Nevada, New York, Pennsylvania, Rhode Island, South Carolina, South Dakota, Utah, Vermont, Wisconsin, Wyoming, Guam, and the Virgin Islands. The competition is limited to the 26 states and 2 territories specified above. Competition is limited to those specified states and territories because the current three-year grant period for Senior Medicare Patrol projects within these states and the one-year capacity building grants in the territories will end on June 30, 2006. The AoA is currently funding SMP projects in the remaining 24 states, the District of Columbia and Puerto Rico.

In order to ensure the program reaches Medicare/Medicaid beneficiaries in the maximum number of states, given available funding, only one project from each state or territory will be funded. It is strongly recommended that statewide collaborative efforts be forged with organizations with experience working with or representing the targeted population.

2. Cost Sharing or Matching

Grantees are required to provide at least 25 percent of the total program costs from non-federal cash or in-kind resources in order to be considered for the award. In accordance with 48 U.S.C. 1469a (d), matching requirements are waived for grantee applicants from Guam and the U.S. Virgin Islands.

3. DUNS Number

The Office of Management and Budget requires applicants to provide a Dun and Bradstreet (D&B) Data Universal Numbering System (DUNS) number when applying for Federal grants or cooperative agreements on or after October 1, 2003. It is entered on the SF 424. It is a unique, nine-digit identification number, which provides unique identifiers of single business entities. The D-U-N-S number is free and easy to obtain.

Organizations can receive a DUNS number at no cost by calling the dedicated toll-free DUNS Number request line at 1-866-705-5711 or by using this link: https://www.whitehouse.gov/omb/grants/duns_num_guide.pdf.

4. Intergovernmental Review

Executive Order 12372, Intergovernmental Review of Federal Programs, is not applicable to these grant applications.

IV. Application and Submission Information

All applicants are required to submit electronically through http://www.grants.gov by midnight April 28, 2006.

Exceptions to this requirement may only be made by the AoA grants management officer, Stephen Daniels on (202) 357-3464. Exceptions may only be made to allow for catastrophic events such as tornadoes, floods, etc. Applicants are responsible for mailing or hand delivering applications to AoA in sufficient time to be received by 5:30 p.m. Eastern Time, April 28, 2006.

Please note AoA is requiring applications for this announcement to be submitted electronically through http://www.grants.gov. The Grants.gov registration process can take several days. If your organization is not currently registered with http://www.grants.gov, please begin this process immediately. For assistance with http://www.grants.gov, please contact Arthur Miller at AoA's Grants.gov helpdesk at (202) 357-3438. At http://www.grants.gov, you will be able to download a copy of the application packet, complete it off-line, and then upload and submit the application via the Grants.gov Web site.

Applicants unable to submit their application via http://www.grants.gov may request permission to submit a hard copy from AoA Grants Management Officer, Stephen Daniels, (202) 357-3464, Stephen.Daniels@aoa.hhs.gov.

1. Address for Application Submission

Hard copy submissions for which approval has been requested and received (per section IV(6) of the announcement), may be mailed to the U.S. Department of Health and Human Services, Administration on Aging, Office of Grants Management, Washington, DC 20201, attn: Stephen Daniels (HHS-2006-AoA-Initial-SM), or hand-delivered (in person, via messenger) to the U.S. Department of Health and Human Services, Administration on Aging, Office of Grants Management, One Massachusetts Avenue, NW., Room 4604, Washington, DC 20001, attn: Stephen Daniels (HHS-2006-AoA-SM-0603).

Applications not submitted electronically must include one original and two copies of the application. Please include a stamped self addressed postcard for acknowledgement of receipt. Instructions for electronic mailing of grant applications are available at http://www.grants.gov/.

2. Submission Dates and Times

To receive consideration, applications must be received by the deadline listed in the DATES section of this Notice.

V. Responsiveness Criteria

Each application submitted will be screened to determine whether it was received by the closing date and time. Applications received by the closing date and time will be screened for completeness and conformity with the requirements outlined in Sections III and IV of this Notice and the Program Announcement. Only complete applications that meet these requirements will be reviewed and evaluated competitively.

VI. Application Review Information

Eligible applications in response to this announcement will be reviewed according to the following evaluation criteria: Purpose and Need for Assistance (20 points); Approach, Work Plan and Activities (30 points); Project Outcomes, Evaluation and Dissemination (30 points); and Level of Effort (20 points).

VII. Agency Contacts

Direct inquiries regarding programmatic and grant issues to:

Project Officer: U.S. Department of Health and Human Services, Administration on Aging, Washington, DC 20201. Attn: Barbara Lewis. Telephone: (202) 357-3532, e-mail: Barbara.Lewis@aoa.hhs.gov.

Grants Management Specialist: U.S. Department of Health and Human Services, Administration on Aging, Washington, DC 20201. Attn: Stephen Daniels. Telephone: (202) 357-3464, e-mail: Stephen.Daniels@aoa.hhs.gov.

Dated: March 14, 2006.
Josefina G. Carbonell,
Assistant Secretary for Aging.

[FR Doc. E6-3932 Filed 3-16-06; 8:45 am]

BILLING CODE 4154-01-P